DEPARTMENT OF ENERGY

Federal Energy Regulatory Commission

[Docket No. PF12-3-000]

Corpus Christi Liquefaction, LLC; Cheniere Corpus Christi Pipeline, L.P.; Notice of Intent To Prepare an Environmental Assessment for the Planned Corpus Christi LNG Terminal and Pipeline Project, Request for Comments on Environmental Issues, and Notice of Public Scoping Meeting

The staff of the Federal Energy Regulatory Commission (FERC or Commission) will prepare an environmental assessment (EA) that will discuss the environmental impacts of the planned Corpus Christi LNG Terminal and Pipeline Project (Project). The Project would involve constructing and operating a liquefied natural gas (LNG) export and import terminal, and a natural gas transmission pipeline in Nueces and San Patricio Counties, Texas. The EA will be used by the Commission in its decision-making process to determine whether to authorize the LNG terminal. The EA will also be used by the Commission to help determine whether the pipeline facilities are in the public convenience and necessity.

This notice announces the opening of the scoping process the Commission will use to gather input from the public and interested agencies about the Project. Your input will help the Commission's staff determine what issues need to be evaluated in the EA. Your input will also help the Commission's staff determine whether the preparation of an environmental impact statement would be more appropriate for this project. Comments about the Project may be submitted in writing or verbally. In lieu of or in addition to submitting written comments, the Commission invites you to attend a public scoping meeting scheduled as follows:

FERC Public Scoping Meeting, Corpus Christi LNG Terminal and Pipeline Project, June 26, 2012—6:00 p.m., Portland Community Center, 2000 Bill G Webb Drive, Portland, TX 78374.

Please note that the scoping period will close on July 2, 2012.

This notice is being sent to the Commission's current environmental mailing list for this project. State and local government representatives should notify their constituents of this project and encourage them to comment on their areas of concern.

If you are a landowner receiving this notice, a Project representative may contact you about the acquisition of an easement to construct, operate, and maintain the natural gas transmission pipeline facilities. The company would seek to negotiate a mutually acceptable agreement. However, if the Commission approves the facilities, that approval conveys with it the right of eminent domain. Therefore, if easement negotiations fail to produce an agreement, a condemnation proceeding could be initiated where compensation would be determined in accordance with state law.

A fact sheet prepared by the FERC entitled “An Interstate Natural Gas Facility On My Land? What Do I Need to Know?” is available for viewing on the FERC Web site (www.ferc.gov). This fact sheet addresses a number of typically-asked questions, including the use of eminent domain and how to participate in the Commission's proceedings.

Summary of the Planned Project

Corpus Christi Liquefaction, LLC (Corpus Christi Liquefaction) plans to construct and operate a LNG export and import terminal on the north shore of Corpus Christi Bay in Nueces and San Patricio Counties, Texas. The terminal facilities would be capable of liquefying approximately 2.1 billion cubic feet per day of natural gas. These facilities would also be capable of vaporizing approximately 400 million cubic feet per day of LNG. In addition to the liquefaction and vaporization facilities; Corpus Christi Liquefaction plans to construct and operate three LNG storage tanks at the terminal. These tanks would be capable of storing approximately 160,000 cubic meters of LNG. To facilitate the estimated 200 ships per year necessary to export and import LNG, Corpus Christi Liquefaction is also planning to construct and operate a marine berth connecting the terminal to the adjacent La Quinta Channel which provides access to open water shipping routes.

Cheniere Corpus Christi Pipeline, L.P. (Corpus Christi Pipeline) plans to construct and operate an approximately 23-mile-long, 48-inch-diameter, bi-directional, natural gas transmission pipeline (and associated facilities) capable of moving approximately 2.25 billion cubic feet per day of natural gas between the terminal and existing natural gas transmission infrastructure near the City of Sinton, Texas. Corpus Christi Pipeline is also planning to construct and operate two compressor stations; the 12,260 horsepower (hp) Taft Compressor Station and the 41,000 hp Sinton Compressor Station to facilitate the movement of gas within the pipeline.

The general location of the planned facilities is shown in Appendix 1.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

Constructing the LNG terminal would require the use of about 891 acres of land. Operating the terminal would require the permanent use of about 326 acres of land. Constructing the pipeline and associated facilities would require the use of about 441 acres of land. Operating the pipeline and associated facilities would require the permanent use of about 202 acres of land. In total, constructing the terminal and pipeline would require the use of about 1,332 acres of land. Operating these facilities would require the permanent use of about 528 acres of land.

The terminal and pipeline would be constructed and operated for the most part on lands previously reviewed by the Commission in FERC Docket Nos. CP04-37, 44, 45 and 46-000. These lands were reviewed for the proposed Cheniere Corpus Christi LNG Project which was approved by the Commission, but never built. The Cheniere Corpus Christi LNG Project would have required the use of about 1,161 acres of land for construction activities and about 712 acres of land for operations-related activities.

The EA Process

The National Environmental Policy Act (NEPA) requires the Commission and other federal agencies to take into account the environmental impacts that could result from an action whenever a federal authorization, permit and/or approval is issued. NEPA also requires the Commission's staff to discover and address concerns the public may have about proposals. The discovery process is commonly referred to as scoping. The main goal of the scoping process is to focus the analysis in the EA on the important environmental issues. By this notice, the Commission requests public comments on the scope of the issues to be addressed in the staff's EA. All comments received will be considered during the preparation of the EA.

In the EA, the Commission's staff will describe the impacts that could occur as a result of constructing and operating the Project under these general headings:

• Geology and soils;

• Water resources and wetlands;

• Vegetation, fisheries and wildlife;

• Threatened and endangered species;

• Socioeconomics;

• Land use and aesthetics;

• Cultural resources;

• Air quality and noise;

• Public safety; and

• Cumulative impacts.

The Commission's staff will also evaluate possible alternatives to the Project or portions of the Project, and make recommendations on how to lessen or avoid impacts on the various resource areas.

Although no formal application has been filed, the Commission's staff has already initiated its NEPA review under the Commission's pre-filing process. The purpose of the pre-filing process is to encourage early involvement of interested stakeholders and to identify and resolve issues before the FERC receives an application. As part of the pre-filing review, the Commission's staff has begun to contact several federal and state agencies to discuss their involvement in the scoping process and the preparation of an EA.

The EA will present the staff's independent analysis of the issues. If staff determines the preparation of an EA is appropriate, the EA will be placed in the public record, published, and distributed to the public. A comment period will be allotted when the EA is issued. Staff will consider all comments on the EA before making its recommendations to the Commission. To ensure your comments are considered, please carefully follow the instructions in the Public Participation section of this notice.

With this notice, we are asking agencies with jurisdiction by law and/or special expertise with respect to environmental issues to formally cooperate with staff in preparing the EA. Agencies that would like to request cooperating agency status should follow the instructions for filing comments provided in the Public Participation section of this notice.

Involvement of U.S. Department of Energy

The U.S. Department of Energy, Office of Fossil Energy (DOE) has agreed to participate as a cooperating agency in the preparation of the EA to satisfy its NEPA responsibilities. DOE proposes to authorize Corpus Christi Liquefaction, LLC, or affiliated company, to export LNG from the planned Corpus Christi LNG Terminal if DOE determines that such export is not inconsistent with the public interest.

The DOE must meet its obligation under section 3 of the Natural Gas Act of 1938, as amended (NGA), to authorize the import and export of natural gas, including LNG, unless it finds that the proposed import or export will not be consistent with the public interest. The purpose and need for DOE action is to respond to an expected application to DOE seeking authorization to export domestically produced natural gas as LNG from the Corpus Christi LNG Terminal to any country: (1) With which the United States does not have a free trade agreement requiring the national treatment for trade in natural gas, and (2) with which trade is not prohibited by U.S. law or policy.

Consultations Under Section 106 of the National Historic Preservation Act

In accordance with the Advisory Council on Historic Preservation's implementing regulations for section 106 of the National Historic Preservation Act, staff is using this notice to initiate consultation with applicable State Historic Preservation Office(s), and to solicit their views and those of other government agencies, interested Indian tribes, and the public on the project's potential effects on historic properties.² Staff will define the project-specific Area of Potential Effects (APE) in consultation with the SHPO(s) as the project develops. On natural gas facility projects, the APE at a minimum encompasses all areas subject to ground disturbance (examples include construction right-of-way, contractor/pipe storage yards, compressor stations, and access roads). The EA for this project will document the staff's findings on the impacts on historic properties and summarize the status of consultations under section 106.

² The Advisory Council on Historic Preservation regulations are at Title 36, Code of Federal Regulations, Part 800. Those regulations define historic properties as any prehistoric or historic district, site, building, structure, or object included in or eligible for inclusion in the National Register for Historic Places.

Currently Identified Environmental Issues

Based on a preliminary review of the planned facilities and information provided by Corpus Christi Liquefaction, the Commission's staff has already identified several issues that it thinks deserves attention. This preliminary list of issues may be changed based on your comments and the staff's analysis. These issues are:

• Air quality;

• Water use;

• Aesthetics;

• Transportation;

• Socioeconomics; and

• Public safety.

Notice of Floodplain Involvement

Because the proposed Project may involve actions in floodplains, in accordance with Title 10 of the Code of Federal Regulations, Part 1022, Compliance with Floodplain and Wetland Environmental Review Requirements, the EA will include a floodplain assessment as appropriate, and a floodplain statement of findings will be included in any DOE finding of no significant impact.

Public Participation

You can make a difference by providing us with your specific comments or concerns about the project. Your comments should focus on the potential environmental effects, reasonable alternatives, and measures to avoid or lessen environmental impacts. The more specific your comments, the more useful they will be. To ensure that your comments are timely and properly recorded, please send your comments so that the Commission receives them in Washington, DC on or before July 2, 2012.

For your convenience, there are three methods you can use to submit your comments to the Commission. In all instances, please reference the project docket number (PF12-3-000) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes affected landowners (as defined in the Commission's regulations) who are potential right-of-way grantors, whose property may be used temporarily for project purposes, or who own homes within certain distances of aboveground facilities, and anyone who submits comments on the project. Staff will update the environmental mailing list as the analysis proceeds to ensure that it sends the information related to this environmental review to all individuals, organizations, and government entities interested in and/or potentially affected by the planned project.

Becoming an Intervenor

Once Corpus Christi Liquefaction files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the project.

Additional Information

Additional information about the project is available from the Commission's Office of External Affairs, at (866) 208-FERC, or on the FERC Web site (www.ferc.gov) using the eLibrary link. Click on the eLibrary link, click on “General Search” and enter the docket number, excluding the last three digits in the Docket Number field (i.e., PF12-3-000). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Finally, public meetings or site visits will be posted on the Commission's calendar located at www.ferc.gov/EventCalendar/EventsList.aspx along with other related information.

Dated: June 1, 2012.
Kimberly D. Bose,
Secretary.

[FR Doc. 2012-13875 Filed 6-7-12; 8:45 am]

BILLING CODE 6717-01-P